DEPARTMENT OF AGRICULTURE

Forest Service

Forest Service Manual 2740; Forest Service Handbook 2709.11, Chapter 50; Special Uses Management, Vegetation Management Pilot Projects; Special Uses Handbook—Standard Forms and Supplemental Clauses

AGENCY: Forest Service, USDA.

ACTION: Issuance of Proposed Directives; notice of availability for public comment.

SUMMARY: The United States Department of Agriculture (USDA), Forest Service, is seeking public comment on proposed directives implementing section 8630 of the Agriculture Improvement Act of 2018 (2018 Farm Bill). Section 8630 of the 2018 Farm Bill gives the Forest Service discretion to issue permits for conducting vegetation management pilot projects under lower liability standards to holders of an authorization for a powerline facility or natural gas pipeline on National Forest System (NFS) lands. These pilot projects may be conducted only on NFS lands that are not covered by the special use authorization for the powerline facility or natural gas pipeline.

DATES: Comments must be received in writing by January 11, 2021.

ADDRESSES: The proposed directives are available at, and comments may be submitted electronically to, https://cara.ecosystem-management.org/Public/CommentInput?project=ORMS-2717. Comments may be mailed to Gregory C. Smith, Director, Lands and Realty Management, 1400 Independence Avenue SW, Washington, DC 20250-1124. All timely comments, including names and addresses, will be placed in the record and will be available for public inspection and copying. The public may inspect comments received at https://cara.ecosystem-management.org/Public/ReadingRoom?project=ORMS-2717.

FOR FURTHER INFORMATION CONTACT: Reggie Woodruff, Lands and Realty Management, at 202-205-1196 or reginal.woodruff@usda.gov. Individuals who use telecommunication devices for the deaf may call the Federal Relay Service at 800-877-8339 between 8:00 a.m. and 8:00 p.m., Eastern Time, Monday through Friday.

SUPPLEMENTARY INFORMATION: Section 8630 of the 2018 Farm Bill gives the Forest Service discretion to issue permits for conducting vegetation management pilot projects under lower liability standards to holders of an authorization for a powerline facility or natural gas pipeline. These pilot projects may be conducted only on NFS lands that are not covered by the special use authorization for the powerline facility or natural gas pipeline. Pilot projects must be conducted outside the linear right-of-way for the associated powerline facility or natural gas pipeline; may not extend more than 150 feet from either side of the powerline facility or natural gas pipeline; and may not have a total width of more than 200 feet including both sides of the powerline facility or natural gas pipeline. In addition, pilot projects may not overlap with vegetation management conducted under the special use authorization for the powerline facility or natural gas pipeline, including removal and pruning of hazard trees outside the linear right-of-way for a powerline facility. The liability provisions in a special use permit for a pilot project have no effect on the liability provisions in the special use authorization for the powerline facility or natural gas pipeline, including the liability provisions that apply to removal and pruning of hazard trees inside and outside the linear right-of-way.

The proposed directive at Forest Service Manual 2700, Special Uses Management, Chapter 40, Vegetation Management Pilot Projects, and proposed new clause B-39 in Forest Service Handbook 2709.11, Chapter 50, section 52.2, would provide for authorizing vegetation management pilot projects consistent with section 8630 of the 2018 Farm Bill and Title V of the Federal Land Policy and Management Act, section 28 of the Mineral Leasing Act, and their implementing regulations. The Forest Service has determined that two provisions in the proposed directives would formulate standards, criteria, and guidelines applicable to a Forest Service program, specifically, providing for use of form FS-2700-4 for pilot project permits and the criteria for determining the maximum dollar amount of fire suppression costs a holder must reimburse the Forest Service for a wildfire caused by the holder's operations under a pilot project permit. Therefore, the Forest Service is publishing those proposed provisions for public comment in accordance with 36 CFR part 216. The remainder of the proposed directives is not subject to public notice and comment because it merely implements statutory provisions that the Forest Service lacks discretion to interpret and therefore does not formulate standards, criteria, and guidelines applicable to FS programs.

After the public comment period closes, the Forest Service will consider timely and relevant comments in developing the final directives. A notice of the final directives, including a response to timely and relevant comments, will be posted on the Forest Service's web page at https://www.fs.fed.us/about-agency/regulations-policies/comment-on-directives.

Christine Dawe,
Acting Associate Deputy Chief, National Forest System.

[FR Doc. 2020-27103 Filed 12-9-20; 8:45 am]

BILLING CODE 3411-15-P